DEPARTMENT OF COMMERCE

United States Patent and Trademark Office

Post Patent Provisions of the Leahy-Smith America Invents Act

AGENCY: United States Patent and Trademark Office, Commerce.

ACTION: Notice.

SUMMARY: The United States Patent and Trademark Office (USPTO), as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before May 19, 2015.

ADDRESSES: Written comments may be submitted by any of the following methods:

• Email: InformationCollection@uspto.gov. Include “0651-0067 Post Patent Provisions of the Leahy-Smith America Invents Act” in the subject line of the message.

• Mail: Marcie Lovett, Records Management Division Director, Office of the Chief Information Officer, United States Patent and Trademark Office, P.O. Box 1450, Alexandria, VA 22313-1450.

• Federal Rulemaking Portal: http://www.regulations.gov.

FOR FURTHER INFORMATION CONTACT: Requests for additional information should be directed to Raul Tamayo, Senior Legal Advisor, Office of Patent Legal Administration, United States Patent and Trademark Office (USPTO), P.O. Box 1450, Alexandria, VA 22313-1450; by telephone at 571-272-7728; or by email at Raul.Tamayo@uspto.gov with “Paperwork” in the subject line. Additional information about this collection is also available at http://www.reginfo.gov under “Information Collection Review.”

SUPPLEMENTARY INFORMATION:

I. Abstract

The United States Patent and Trademark Office (USPTO) is required by 35 U.S.C. 131 et seq. to examine an application for patent and, when appropriate, issue a patent. The provisions of 35 U.S.C. 301 and 37 CFR 1.501 govern the ability of a person to submit into the file of an issued patent (i) prior art consisting of patents or printed publications which that person believes to have a bearing on the patentability of any claim of a patent and (ii) written statements of a patent owner filed in a proceeding before a Federal court or the USPTO in which the patent owner took a position on the scope of any claim of the patent.

The information in this collection can be submitted electronically through EFS-Web, the USPTO's web-based electronic filing system, as well as on paper. The USPTO therefore accounts for both electronic and paper submissions in this collection.

II. Method of Collection

Electronically if applicants submit the information using the TEAS forms. By mail or hand delivery if applicants choose to submit the information in paper form.

III. Data

OMB Number: 0651-0067.

IC Instruments: The individual instruments in this collection, as well as their associated forms, are listed in the table below.

IC No. | Information collection instrument | Form(s)
1 | Information Disclosure Citation in a Patent (paper and electronic) | • PTO/SB/42.

Type of Review: Revision of a currently approved collection.

Affected Public: Individuals or households; businesses or other for-profits; and not-for-profit institutions.

Estimated Responses: The USPTO estimates that it will receive a total of 240 responses to this information collection annually, of which 60 will be filed by small entities. The USPTO estimates that 230 of the 240 responses will be filed electronically.

Estimated Time per Response: The USPTO estimates that it will take the public 10 hours to complete the collection of information. This includes time to gather the necessary information, create the document, and submit the completed request to the USPTO. The USPTO calculates that, on balance, it takes the same amount of time to gather the necessary information, create the document, and submit it to the USPTO, whether the applicant submits the information in paper form or electronically.

The time per response, estimated annual responses, and estimated annual hour burden associated with each instrument in this information collection is shown in the table below.

Estimated Total Annual Hour Burden: 2,400 hours.

Estimated Total Annual Cost Burden (Hourly): $933,600. The USPTO expects that attorneys will complete the instruments associated with this information collection. The professional hourly rate for attorneys is $389. Using this hourly rate, the USPTO estimates $933,600 per year for the total hourly costs associated with respondents.

No. | Information collection instrument | Estimated time for response (minutes) | Estimated annual responses | Estimated annual burden hours
|  | (a) | (b) | (a) x (b) = (c)
1 | Electronic Information Disclosure Citation in a Patent | 600 | 230 | 2,300
2 | Information Disclosure Citation in a Patent | 600 | 10 | 100
Total |  |  | 240 | 2,400

Estimated Total Annual Cost Burden (Non-Hourly): $57.50. There are postage costs associated with information disclosure citations in a patent. Customers may incur postage costs when submitting the information in this collection to the USPTO by mail through the United States Postal Service. The USPTO estimates that the average postage cost for a mailed one-pound submission will be $5.75 and approximately 10 submissions will be submitted to the USPTO requiring postage. The estimated postage cost for this collection will be $57.50.

No. | Information collection instrument | Responses (yr) | Postage fee ($) | Total non-hour cost burden (yr)
|  | (a) | (b) | (a) x (b) = (c)
1 | Information Disclosure Citation in a Patent | 10 | $5.75 | $57.50
Total |  | 10 |  | 57.50

Therefore, the USPTO estimates that the total annual (non-hour) cost burden for this collection, in the form of postage is $57.50 per year.

IV. Request for Comments

Comments are invited on: (a) Whether the proposed collection of information is necessary for the proper performance of the functions of the agency, including whether the information shall have practical utility; (b) the accuracy of the agency's estimate of the burden (including hours and cost) of the proposed collection of information, including the validity of the methodology and assumptions used; (c) ways to enhance the quality, utility, and clarity of the information to be collected; and (d) ways to minimize the burden of the collection of information on respondents, including through the use of automated collection techniques or other forms of information technology, e.g., permitting electronic submission of responses.

Comments submitted in response to this notice will be summarized or included in the request for OMB approval of this information collection; they will also become a matter of public record.

Dated: March 13, 2015.
Marcie Lovett,
Records Management Division Director, USPTO, Office of the Chief Information Officer.

[FR Doc. 2015-06459 Filed 3-19-15; 8:45 am]

BILLING CODE 3510-16-P